DEPARTMENT OF COMMERCE

International Trade Administration

[A-421-811]

Purified Carboxymethylcellulose From the Netherlands: Preliminary Results of Antidumping Duty Administrative Review; 2013-2014

AGENCY: Enforcement and Compliance, International Trade Administration, Department of Commerce.

SUMMARY: The Department of Commerce (the Department) is conducting an administrative review of the antidumping duty order on purified carboxymethylcellulose (purified CMC) from the Netherlands. The period of review (POR) is July 1, 2013, through June 30, 2014. The review covers one producer/exporter of the subject merchandise, Akzo Nobel Functional Chemicals, B.V. (Akzo Nobel).

We preliminarily determine that sales of subject merchandise by Akzo Nobel were not made at less than normal value during the POR. Interested parties are invited to comment on these preliminary results.

DATES: Effective Date: June 8, 2015.

FOR FURTHER INFORMATION CONTACT: John Drury or Angelica Townsend, AD/CVD Operations, Office VI, Enforcement and Compliance, International Trade Administration, U.S. Department of Commerce, 14th Street and Constitution Avenue NW., Washington, DC 20230; telephone: (202) 482-0195 or (202) 482-3019, respectively.

SUPPLEMENTARY INFORMATION:

Scope of the Order

The merchandise covered by the order is all purified CMC. The merchandise subject to the order is currently classified in the Harmonized Tariff Schedule of the United States at subheading 3912.31.00. This tariff classification is provided for convenience and Customs purposes; however, the written description of the scope of the order is dispositive. A full description of the scope of the order is contained in the memorandum from Christian Marsh, Deputy Assistant Secretary for Antidumping and Countervailing Duty Operations, to Paul Piquado, Assistant Secretary for Enforcement and Compliance, titled “Decision Memorandum for Preliminary Results of Antidumping Duty Administrative Review: Purified Carboxymethylcellulose from the Netherlands; 2013-2014” (Preliminary Decision Memorandum), which is issued concurrent with, and hereby adopted by, this notice.

The Preliminary Decision Memorandum is a public document and is on file electronically via Enforcement and Compliance's Antidumping and Countervailing Duty Centralized Electronic Service System (ACCESS). Access to ACCESS is available to registered users at http://access.trade.gov and is available to all parties in the Central Records Unit, Room 7046 of the main Department of Commerce building. In addition, a complete version of the Preliminary Decision Memorandum can be accessed directly on the Internet at http://enforcement.trade.gov/frn/index.html. A list of topics discussed in the Preliminary Decision Memorandum is attached as an Appendix to this notice. The signed Preliminary Decision Memorandum and the electronic versions of the Preliminary Decision Memorandum are identical in content.

Methodology

The Department has conducted this review in accordance with section 751(a)(2) of the Tariff Act of 1930, as amended (the Act). Constructed export price (CEP) is calculated in accordance with section 772 of the Act. Normal value is calculated in accordance with section 773 of the Act. For a full description of the methodology underlying our conclusions, see the Preliminary Decision Memorandum.

Preliminary Results of Review

We preliminarily determine that, for the period July 1, 2013, through June 30, 2014, the following weighted-average dumping margin exists:

Manufacturer/exporter | Weighted- average margin (percent)
Akzo Nobel Functional Chemicals B.V.¹ | 0.00

Disclosure and Public Comment

The Department intends to disclose to interested parties to the proceeding any calculations performed in connection with these preliminary results of review within five days after the date of publication of this notice.² Interested parties may submit case briefs to the Department in response to these preliminary results no later than 30 days after the publication of these preliminary results.³ Rebuttal briefs, the content of which is limited to the issues raised in the case briefs, must be filed within five days from the deadline date for the submission of case briefs.⁴ Parties who submit arguments in this proceeding are requested to submit with each argument: (1) A statement of the issue; (2) a brief summary of the argument; and (3) a table of authorities.⁵ Executive summaries should be limited to five pages total, including footnotes. Case and rebuttal briefs should be filed using ACCESS.⁶ In order to be properly filed, ACCESS must successfully receive an electronically-filed document in its entirety by 5 p.m. Eastern Time. Case and rebuttal briefs must be served on interested parties.⁷

¹ For this administrative review, the Department preliminarily determines that Akzo Nobel and ANC-AG should be treated as a single entity, based on affiliation and intertwined relations. See the Preliminary Analysis Memorandum at 2-7.

² See 19 CFR 351.224(b).

³ See 19 CFR 351.309(c)(1)(ii).

⁴ See 19 CFR 351.309(d)(1) and (2).

⁵ See 19 CFR 351.309(c)(2) and (d)(2).

⁶ See generally 19 CFR 351.303.

⁷ See 19 CFR 351.303(f).

Within 30 days of the date of publication of this notice, interested parties may request a public hearing on arguments raised in the case and rebuttal briefs.⁸ Unless the Department specifies otherwise, the hearing, if requested, will be held two days after the date for submission of rebuttal briefs.⁹ Written argument and hearing requests should be electronically submitted to the Department via ACCESS.¹⁰ The Department's electronic records system, ACCESS, must successfully receive an electronically-filed document in its entirety by 5:00 p.m. Eastern Time within 30 days after the date of publication of this notice.¹¹ Requests should contain: (1) The party's name, address, and telephone number; (2) the number of participants; and (3) a list of issues to be discussed. Issues raised in the hearing will be limited to those raised in the respective case briefs. Parties will be notified of the time and location of the hearing.

⁸ See 19 CFR 351.310(c).

⁹ See 19 CFR 351.310(d)(1).

¹⁰ See generally 19 CFR 351.303.

¹¹ See 19 CFR 351.310(c).

The Department intends to publish the final results of this administrative review, including the results of its analysis of issues addressed in any case or rebuttal brief, no later than 120 days after publication of the preliminary results, unless extended.¹²

¹² See section 751(a)(3)(A) of the Act; 19 CFR 351.213(h).

Assessment Rates

Upon completion of this administrative review, the Department shall determine, and U.S. Customs and Border Protection (CBP) shall assess, antidumping duties on all appropriate entries.¹³ If Akzo Nobel's weighted-average dumping margin is not zero or de minimis in the final results of this review, we will calculate importer-specific assessment rates on the basis of the ratio of the total amount of antidumping duties calculated for an importer's examined sales and the total entered value of such sales in accordance with 19 CFR 351.212(b)(1). If Akzo Nobel's weighted-average dumping margin continues to be zero or de minimis in the final results of review, we will instruct CBP not to assess duties on any of its entries in accordance with the Final Modification for Reviews, i.e., “{w}here the weighted-average margin of dumping for the exporter is determined to be zero or de minimis, no antidumping duties will be assessed.” ¹⁴ The final results of this review shall be the basis for the assessment of antidumping duties on entries of merchandise covered by the final results of this review and for future deposits of estimated duties, where applicable.

¹³ See 19 CFR 351.212(b)(1).

¹⁴ See Antidumping Proceedings: Calculation of the Weighted-Average Dumping Margin and Assessment Rate in Certain Antidumping Proceedings: Final Modification, 77 FR 8101, 8102 (February 14, 2012) (Final Modification for Reviews).

We intend to issue liquidation instructions to CBP 15 days after publication of the final results of this review.

Cash Deposit Requirements

The following cash deposit requirements will be effective upon publication of the final results of this administrative review for all shipments of the subject merchandise entered, or withdrawn from warehouse, for consumption on or after the publication date of the final results of this administrative review, as provided by section 751(a)(2)(C) of the Act: (1) The cash deposit rate for Akzo Nobel will be that established in the final results of this administrative review (except, if the rate is zero or de minimis, no cash deposit will be required); (2) for previously reviewed or investigated companies not listed above, the cash deposit rate will continue to be the company-specific rate published for the most recent period; (3) if the exporter is not a firm covered in this review, a prior review, or in the less-than-fair-value investigation but the manufacturer is, the cash deposit rate will be the rate established for the most recent period for the manufacturer of the merchandise; and (4) the cash deposit rate for all other manufacturers or exporters will continue to be the all-others rate of 14.57 percent, which is the all-others rate established in the investigation.¹⁵ These cash deposit requirements, when imposed, shall remain in effect until further notice.

¹⁵ See Notice of Antidumping Duty Orders: Purified Carboxymethylcellulose from Finland, Mexico, the Netherlands and Sweden, 70 FR 39734, 39735 (July 11, 2005).

Notification to Importers

This notice also serves as a reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing this notice in accordance with sections 751(a)(1) and 777(i)(1) of the Act and 19 CFR 351.213(h)(1).

Dated: May 29, 2015.
Ronald K. Lorentzen,
Acting Assistant Secretary for Enforcement and Compliance.

Appendix I

List of Topics Discussed in the Preliminary Decision Memorandum

1. Summary

2. Background

3. Affiliation and Treatment as a Single Entity

4. Scope of the Order

5. Discussion of the Methodology

A. Comparisons to Normal Value

1. Determination of Comparison Method

2. Results of the Differential Pricing Analysis

B. Product Comparisons

C. Date of Sale

D. Constructed Export Price

E. Normal Value

1. Home Market Viability as Comparison Market

2. Level of Trade

3. Cost of Production

a. Calculation of Cost of Production

b. Test of Comparison Market Sales Prices

c. Results of the Cost of Production Test

4. Calculation of Normal Value Based on Comparison Market Prices

6. Currency Conversion

7. Recommendation

[FR Doc. 2015-13952 Filed 6-5-15; 8:45 am]

BILLING CODE 3510-DS-P